DEPARTMENT OF TRANSPORTATION

Coast Guard

33 CFR Part 117

[CGD07-01-094]

Drawbridge Operation Regulations: Highbridge Road Drawbridge, Atlantic Intracoastal Waterway, Volusia County, Florida

AGENCY: Coast Guard, DOT.

ACTION: Notice of temporary deviation from regulations.

SUMMARY: The Commander, Seventh Coast Guard District, has approved a temporary deviation from the regulations governing the operation of the Highbridge Road Drawbridge, Atlantic Intracoastal Waterway, mile 816, Volusia County, Florida. This deviation allows the bridge owner to provide single leaf openings from September 17, 2001 through September 30, 2001. This temporary deviation is required to allow the bridge owner to safely complete repairs to the bridge.

DATES: This deviation is effective from 8 a.m. on September 17, 2001 until 5 p.m. on September 30, 2001.

ADDRESSES: Comments and material received from the public, as well as documents indicated in this preamble as being available in the docket, will become part of this docket [CGD07-01-094] and will be available for inspection or copying at Commander (obr), Seventh Coast Guard District, 909 S.E. 1st Avenue, Miami, FL 33131 between 7:30 a.m. and 4 p.m., Monday through Friday, except Federal Holidays.

FOR FURTHER INFORMATION CONTACT: Mr. Barry Dragon, Chief, Operations Section, Seventh Coast Guard District, Bridge Section at (305) 415-6743.

SUPPLEMENTARY INFORMATION: Highbridge Road Drawbridge, Atlantic Intracoastal Waterway, Volusia County, Florida, is a double leaf bridge with a vertical clearance of 15 feet above mean high water (MHW) measured at the fenders in the closed position and a horizontal clearance of 91 feet. The current operating regulation in 33 CFR 117.5 requires the draw to fully open on signal.

On July 17, 2001, the drawbridge owner requested a deviation from the current operating regulations to allow the owner to complete repairs.

The District Commander has granted a temporary deviation from the operating requirements listed in 33 CFR 117.5 to complete these repairs. Under this deviation, the Highbridge Road Drawbridge, shall open on single leaf from 8 a.m. on September 17, 2001 until 5 p.m. on September 30, 2001.

Dated: September 12, 2001.
Greg E. Shapley,
Chief, Bridge Administration, Seventh Coast Guard District.

[FR Doc. 01-23682 Filed 9-20-01; 8:45 am]

BILLING CODE 4910-15-P